DEPARTMENT OF LABOR

Employment and Training Administration

Investigations Regarding Certifications of Eligibility To Apply for Worker Adjustment Assistance

Petitions have been filed with the Secretary of Labor under Section 221(a) of the Trade Act of 1974 (“the Act”) and are identified in the appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 1, 2002.

Interested persons are invited to submit written comments regrading the subject matter of the investigations to the Director, Division of Trade Adjustment Assistance, at the address shown below, not later than April 1, 2002.

The petitions filed in this case are available for inspection at the Office of the Director, Division of Trade Adjustment Assistance, Employment and Training Administration, U.S. Department of Labor, Room C-5311, 2000 Constitution Avenue, NW, Washington, DC 20210.

Signed at Washington, DC this 28th day of January, 2002.
Edward A. Tomchick,
Director, Division of Trade Adjustment Assistance.

Appendix
[Petitions Instituted on 01/28/2002]
TA-W | Subject firm (petitioners) | Location | Date of petition | Product(s)
40,634 | LTV Steel (USWA) | Hennepin, IL | 12/18/2001 | Cold Rolled Sheet, Strip.
40,635 | LTV Steel (USWA) | Warren, OH | 12/04/2001 | Coke and Coke By-Products.
40,636 | King Manufacturing (Wkrs) | Corinth, MS | 09/23/2001 | Telephones.
40,637 | Steelcraft, Inc. (Wkrs) | Warren, OH | 11/27/2001 | New Parts Supplied to Steel Companies.
40,638 | Hayes Lemmerz Int'l (Wkrs) | Petersburg, MI | 11/30/2001 | Intake Manifolds.
40,639 | Cooper Bussmann (Wkrs) | Goldsboro, NC | 11/27/2001 | Circuit Protection Devices—Fuses.
40,640 | Timken Company (The) (USWA) | Canton, OH | 11/29/2001 | Bearings and Components.
40,641 | Mobil Oil (Wkrs) | Dallas, TX | 11/14/2001 | Accounting Services.
40,642 | Imerys Pigments (Wkrs) | Dry Branch, GA | 11/27/2001 | Kaolin Clay.
40,643 | Robbins Witt (Wkrs) | Warren, AR | 11/07/2001 | Wood for Flooring.
40,644 | Kraft Foods (Comp) | Minneapolis, MN | 11/21/2001 | Breakfast Cereals.
40,645 | Star Specialty Knitting (Comp) | Laconia, NH | 10/24/2001 | Athletic Activewear.
40,646 | GE Superabrasives (Comp) | Worthington, OH | 11/28/2001 | Superabrasives, Industrial Diamonds.
40,647 | Biltwell Clothing (Comp) | Farmington, MO | 11/29/2001 | Warehousing, Distribution.
40,648 | Domino Am Jet, Inc. (Comp) | Gurnee, IL | 11/20/2001 | Printers.
40,649 | Steven Bank (Wkrs) | New York, NY | 11/12/2001 | Hospital Garments.
40,650 | Signal Transformer Co. (Comp) | Inwood, NY | 11/07/2001 | Power Transformers.
40,651 | Electron Corp. (The) (Wkrs) | Blockwell, OK | 11/30/2001 | Iron Castings.
40,652 | VF Jeanswear Limited (Wkrs) | Springfield, MO | 12/13/2001 | Jeans and Pants.
40,652A | VF Jeanswear Limited (Wkrs) | Lebanon, MO | 12/13/2001 | Jeans and Pants.
40,653 | Welland Chemical (USWA) | Newell, PA | 12/13/2001 | Mixed Acids.
40,654 | In Vogue Apparel (Wkrs) | West Hazleton, PA | 12/03/2001 | Ladies' Slacks.
40,655 | Fujitsu Microelectronics (Wkrs) | Gresham, OR | 12/21/2001 | Flash Memory Devices (Wafers).
40,656 | Vanity Fair Intimates (Comp) | Monroeville, AL | 12/10/2001 | Ladies' Intimate Apparel.
40,656A | Vanity Fair Intimates (Comp) | Atmore, AL | 12/10/2001 | Ladies' Intimate Apparel.
40,657 | Agilent Technologies (Wkrs) | Fort Collins, CO | 11/27/2001 | Silcon Wafers.
40,658 | Polaroid Corporation (Comp) | Waltham, MA | 12/08/2001 | Film Packs.
40,659 | Georgia Pacific (Wkrs) | Conway, NC | 12/13/2001 | Hardboard.
40,660 | Mettler Toledo Process (Comp) | Woburn, MA | 12/03/2001 | PH Electrodes.
40,661 | Osley and Whitney (Wkrs) | Westfield, MA | 12/03/2001 | Plastic Injection molds.
40,662 | Rivers West Apparel (Wkrs) | Manti, UT | 01/22/2001 | Outdoor Apparel (Vests, Jackets).
40,663 | Greenwood Mills—Liberty (Wkrs) | Liberty, SC | 12/18/2001 | Finished Denim Fabric.
40,664 | Ferro Corporation (Wkrs) | Crooksville, OH | 12/03/2001 | Ceramics.
40,665 | P and H Mining Equipment (Wkrs) | Milwaukee, WI | 12/12/2001 | Electric Mining Shovels.
40,666 | Loren Casting (Wkrs) | Hollywood, FL | 12/04/2001 | Rings, Pendants, and Earrings.
40,667 | Leech Tool and Die Works (Wkrs) | Meadville, PA | 12/19/2001 | Plastic Molds and Dies.
40,668 | Ray Fabricating Corp (Comp) | Athens, TN | 12/06/2001 | Steel Fabricated Fittings.
40,669 | Great Lakes Chemical (Comp) | Nitro, WV | 12/14/2001 | Flame Retardant & Fluid Phosphate Esters.
40,670 | Knitcraft, Inc. (Comp) | Belmont, NC | 12/17/2001 | Unfinished Knit Goods.
40,671 | Isola Laminate Systems (Comp) | LaCrosse, WI | 12/10/2001 | Laminate Base Materials.
40,672 | Trio Dyeing and Finishing (Wkrs) | Paterson, NJ | 12/14/2001 | Textiles.
40,673 | Stanley Fastening Systems (Wkrs) | E. Greenwich, RI | 12/05/2001 | Pneumatic nailers.
40,674 | Bender Shoe (Comp) | Somerset, PA | 12/17/2001 | Western Boots.
40,675 | Titan Plastic Group (Wkrs) | El Paso, TX | 12/17/2001 | Plastic Components.
40,676 | Tyco Electronics (Wkrs) | Greensboro, NC | 12/03/2001 | Electronic Components.
40,677 | Purcell Tire (Comp) | Silver City, NM | 12/03/2001 | Mining Tires.
40,678 | Active Transportation (IBT) | Portland, OR | 12/17/2001 | Provide Trucking Service.
40,679 | Eaton Corporation (Wkrs) | Sanford, NC | 12/13/2001 | Thermal Expansion Valve.
40,680 | Pan Am Shoe Co. (Comp) | Camuy, PR | 12/21/2001 | Shoes.
40,681 | Biokyowa, Inc. (Comp) | Cape Girardeau, MO | 12/12/2001 | Amino Acid Feed Supplements—Animals.
40,682 | World Kitchen, Inc. (Comp) | Martinsburg, WV | 12/20/2001 | Glass Ceramic Cookware.
40,683 | Vic's Custom Raft Frames (Wkrs) | Grants Pass, OR | 12/26/2001 | Hunting Blinds.
40,684 | Independent Tool and Mfg. (Comp) | Meadville, PA | 12/11/2001 | Internal Parts—Plastic Mold Industry.
40,685 | Ingersoll Rand (IAMAW) | Mayfield, KY | 10/31/2001 | Centrifugal Air Compressors.
40,686 | AutoDie International (Comp) | Grand Rapids, MI | 11/30/2001 | Tool and Die—Auto Industry.
40,687 | Goodyear Dunlop Tires (USWA) | Huntsville, AL | 11/28/2001 | Radial Tires.
40,688 | Sanmina (Wkrs) | Clinton, NC | 10/18/2001 | Electronics.
40,689 | Motor Coils Manufacturing (IUE) | St. Louis, MO | 11/02/2001 | Motor Coils.
40,690 | Indiana Knitwear Corp (Comp) | Lyford, TX | 11/09/2001 | Active Wear.
40,691 | Double Eagle Mfg. (Comp) | Tallassee, AL | 11/05/2001 | Children's Clothing.
40,692 | VarTec CRM, Inc (Wkrs) | Waco, TX | 11/30/2001 | Provide Customer Relations Management.
40,693 | Intervet, Inc (Comp) | Gainesville, GA | 11/20/2001 | Poultry Vaccines.
40,693A | Intervet, Inc. (Comp) | State College, PA | 11/20/2001 | Poultry Vaccines.
40,694 | Commercial Warehouse (Wkrs) | El Paso, TX | 11/18/2001 | Surgical Blankets.
40,695 | Nolato Shieldmate (Comp) | Itasca, IL | 11/27/2001 | Plastic Housing for Cellular Phones.
40,696 | National Mills (Wkrs) | Dayton, TN | 11/16/2001 | Tee Shirts.
40,697 | First Source Furniture (Wkrs) | Halls, TN | 10/24/2001 | Office Furniture.
40,698 | 3M San Marcos (Comp) | San Marcos, CA | 01/02/2001 | Packs, Bags, Rod Tubes—Fly Fishing.
40,699 | AA Precisioneering (Comp) | Meadville, PA | 10/24/2001 | Tool and Die Makers.
40,700 | Cmac Quartz Crystals (Wkrs) | Mechanicsburg, PA | 10/22/2001 | Electronic Oscillators.
40,701 | Internet Arena (Wkrs) | Portland, OR | 10/18/2001 | Technical Support for Internet use.
40,702 | Design and Cut, Inc. (Wkrs) | Cartersville, GA | 10/18/2001 | Sheat Shirts and Pant.
40,703 | Liberty Fabrics (Comp) | New York, NY | 11/19/2001 | Fabrics.
40,704 | Texfi Industries (Comp) | Jefferson, GA | 10/22/2001 | Apparel Fabric.
40,705 | ITT Industries (Wkrs) | Newton, MA | 12/18/2001 | Electromechanical Switches.

[FR Doc. 02-6662 Filed 3-19-02; 8:45 am]

BILLING CODE 4510-30-M